FEDERAL COMMUNICATIONS COMMISSION

47 CFR Part 5

[ET Docket No. 10-237; FCC 10-198]

Promoting More Efficient Use of Spectrum Through Dynamic Spectrum Use Technologies

AGENCY: Federal Communications Commission.

ACTION: Proposed rule.

SUMMARY: In this document, the Commission seeks to promote and facilitate wireless innovation to ensure that the promise of dynamic spectrum access technologies can be fully realized and applied across more of the radio spectrum. A dynamic sharing approach would, for example, allow devices to identify and use slices of spectrum that are available in a particular location for a limited time—from as little as few seconds to as much as several days. Specifically, the Commission seeks comment on the variety of ways in which dynamic spectrum access radios and techniques can promote more intensive and efficient use of the radio spectrum, and the potential that these technological innovations have for enabling more effective management of spectrum.

DATES: Comments must be filed on or before February 28, 2011, and reply comments must be filed on or before March 28, 2011.

FOR FURTHER INFORMATION CONTACT: Rodney Small, Office of Engineering and Technology, (202) 418-2452, e-mail: Rodney.Small@fcc.gov, TTY (202) 418-2989.

ADDRESSES: You may submit comments, identified by ET Docket No. 10-237, by any of the following methods:

• Federal eRulemaking Portal: http://www.regulations.gov. Follow the instructions for submitting comments.

• Federal Communications Commission's Web Site: http://www.fcc.gov/cgb/ecfs/. Follow the instructions for submitting comments.

• E-mail: [Optional: Include the E-mail address only if you plan to accept comments from the general public]. Include the docket number(s) in the subject line of the message.

• Mail: [Optional: Include the mailing address for paper, disk or CD-ROM submissions needed/requested by your Bureau or Office. Do not include the Office of the Secretary's mailing address here.]

• People with Disabilities: Contact the FCC to request reasonable accommodations (accessible format documents, sign language interpreters, CART, etc.) by e-mail: FCC504@fcc.gov or phone: 202-418-0530 or TTY: 202-418-0432.

For detailed instructions for submitting comments and additional information on the rulemaking process, see the SUPPLEMENTARY INFORMATION of this document.

SUPPLEMENTARY INFORMATION: This is a summary of the Commission's Notice of Inquiry, ET Docket No. 10-237, FCC 10-198, adopted and released on November 30, 2010. The full text of this document is available for inspection and copying during normal business hours in the FCC Reference Center (Room CY-A257), 445 12th Street, SW., Washington, DC 20554. The complete text of this document also may be purchased from the Commission's copy contractor, Best Copy and Printing, Inc., 445 12th Street, SW., Room, CY-B402, Washington, DC 20554. The full text may also be downloaded at: http://www.fcc.gov.

Pursuant to §§ 1.415, 1.419, and 1.430 of the Commission's rules, 47 CFR 1.415, 1.419, and 1.430, interested parties may file comments and reply comments on or before the dates indicated on the first page of this document. Comments may be filed using: (1) The Commission's Electronic Comment Filing System (ECFS), (2) the Federal Government's eRulemaking Portal, or (3) by filing paper copies. See Electronic Filing of Documents in Rulemaking Proceedings, 63 FR 24121 (1998).

• Electronic Filers: Comments may be filed electronically using the Internet by accessing the ECFS: http://fjallfoss.fcc.gov/ecfs2/ or the Federal eRulemaking Portal: http://www.regulations.gov.

• Paper Filers: Parties who choose to file by paper must file an original and four copies of each filing. If more than one docket or rulemaking number appears in the caption of this proceeding, filers must submit two additional copies for each additional docket or rulemaking number.

Filings can be sent by hand or messenger delivery, by commercial overnight courier, or by first-class or overnight U.S. Postal Service mail. All filings must be addressed to the Commission's Secretary, Office of the Secretary, Federal Communications Commission.

• All hand-delivered or messenger-delivered paper filings for the Commission's Secretary must be delivered to FCC Headquarters at 445 12th St., SW., Room TW-A325, Washington, DC 20554. The filing hours are 8 a.m. to 7 p.m. All hand deliveries must be held together with rubber bands or fasteners. Any envelopes must be disposed of before entering the building.

• Commercial overnight mail (other than U.S. Postal Service Express Mail and Priority Mail) must be sent to 9300 East Hampton Drive, Capitol Heights, MD 20743.

• U.S. Postal Service first-class, Express, and Priority mail must be addressed to 445 12th Street, SW., Washington DC 20554.

People with Disabilities: To request materials in accessible formats for people with disabilities (braille, large print, electronic files, audio format), send an e-mail to fcc504@fcc.gov or call the Consumer & Governmental Affairs Bureau at 202-418-0530 (voice), 202-418-0432 (tty).

Summary of Notice of Inquiry

1. In the Notice of Inquiry (NOI), the Commission explores the current state of development of dynamic spectrum access technologies, including the technical developments that affect the design and operation of dynamic radios. In particular, it examines the development of spectrum sensing and other dynamic spectrum sharing capabilities and techniques. Next it explores ways in which it can help promote the development of these technologies for use on both a licensed and an unlicensed basis. The Commission inquires whether there are additional steps it should take to improve its “Spectrum Dashboard,” a Web-based access tool that enables users to determine how spectrum is being used, who holds spectrum licenses around the country, and what spectrum is available in a particular geographic area. In addition, the Commission seeks comment on how spectrum used through secondary market arrangements could employ dynamic spectrum access radios and techniques. It also seeks comment on establishment of dynamic access radio test beds and on spectrum bands that might be suitable for dynamic spectrum access. Finally, the Commission examines whether the database access model applicable to unlicensed Television Band Devices might be deployed in other spectrum bands.

2. As a general matter, dynamic spectrum access radios, as well as the new spectrum management techniques that they can enable, hold great promise to increase productive use of spectrum as the Commission seeks to use the nation's available spectrum resources more intensively and efficiently. With data traffic on mobile wireless networks estimated to grow by a factor of thirty-five between 2009 and 2014, there is a critical need for increased efficiency in use of spectrum, as well as the need for additional spectrum, not only for mobile wireless networks, but also for a wide variety of RF-based applications and services. Ensuring that the Commission can take advantage of these improved efficiencies will be critical as it addresses this spectrum challenge, and can lead to increased spectrum value that spurs additional investment and innovation that can benefit American consumers. The Commission seeks to expand the environment in which these advanced technologies and techniques can be developed and improved, and then can be applied across more radio spectrum. Thus, it seeks information on these dynamic technologies and on what additional steps the Commission can and should take to encourage, promote, and incentivize their development and use in both unlicensed and licensed spectrum.

3. The Commission believes that there are opportunities for use of dynamic spectrum access techniques under both licensed and unlicensed regulatory approaches. Each approach has its benefits and limitations in the context of dynamic spectrum access techniques. It also observes that, as spectrum users seek to make the best and most efficient use of the available spectrum resource, they are increasingly using a combination of unlicensed networks and dedicated licensed networks employing advanced radio devices to meet their spectrum needs. The Commission's objective is to identify how to make the most efficient use of spectrum to help meet the demand for wireless broadband services, as well as many other applications, under both licensed and unlicensed regulatory approaches.

4. Much work is being done to advance dynamic radio technologies, and the Commission believes that this work has already enabled more efficient use of the spectrum resource. However, this work is still in its early stages, and far more efficient spectrum use may be possible in the future. For this to happen, not only must advances continue to be made in the areas of sensing technology, usage algorithms, and cognitive abilities, but regulatory models may need to change. The Commission therefore inquires as to what it can do to best facilitate the use of dynamic radio technology, both from a technical and non-technical perspective.

5. Pursuant to sections 4(i), 301, and 303 of the Communications Act of 1934, as amended, 47 U.S.C. 154(i), 301, and 303, this Notice of Inquiry is adopted.

Marlene H. Dortch,
Secretary, Federal Communications Commission.

[FR Doc. 2010-32491 Filed 12-27-10; 8:45 am]

BILLING CODE 6712-01-P